FEDERAL COMMUNICATIONS COMMISSION

Radio Broadcasting Services; AM or FM Proposals To Change the Community of License

AGENCY: Federal Communications Commission.

ACTION: Notice.

SUMMARY: The following applicants filed AM or FM proposals to change the community of license: ALATRON CORPORATION, INC., Station WAOQ, Facility ID 825, BPH-20121219ACP, From GOSHEN, AL, To BRANTLEY, AL; AZALEA RADIO CORPORATION, Station NEW, Facility ID 183371, BMPH-20121206ACO, From ROUNDUP, MT, To LEWISTOWN HEIGHTS, MT; COLONIAL RADIO GROUP, INC. Station WBYB, Facility ID 4586, BPH-20130104ACK, From KANE, PA, To ELDRED, PA; L. TOPAZ ENTERPRISES, INC., Station KQGD, Facility ID 171502, BPH-20121231AMK, From ELKO, NV, To WINNEMUCCA, NV; SORENSEN PACIFIC BROADCASTING INC., Station KPXP, Facility ID 60854, BPH-20121219ABH, From GARAPAN-SAIPAN, MP, To MANGILAO, GU.

DATES: The agency must receive comments on or before April 15, 2013.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2013-03218 Filed 2-11-13; 8:45 am]

BILLING CODE 6712-01-P